DEPARTMENT OF TRANSPORTATION

Federal Transit Administration

Availability of Fiscal Year 2008 Clean Fuels Grant Program Funds: Solicitation of Project Proposals

AGENCY: Federal Transit Administration (FTA), DOT.

ACTION: Notice.

SUMMARY: The U.S. Department of Transportation (DOT) Federal Transit Administration (FTA) announces the availability of funds in Fiscal Year (FY) 2008 for the Discretionary Clean Fuels Grant Program, authorized by the Safe, Accountable, Flexible, Efficient, Transportation Equity Act: A Legacy For Users (SAFETEA-LU). The Clean Fuels Grant Program makes funds available to assist non-attainment or maintenance areas in achieving or maintaining the National Ambient Air Quality Standards for ozone or carbon monoxide (CO). Additionally, the program supports emerging clean fuel and advanced propulsion technologies for transit buses and markets for those technologies. The authorizing legislation allows for the Secretary of Transportation to make awards under this program at her discretion in non-attainment or maintenance areas for ozone or CO.

In FY 2008, $49,000,000 was available for the discretionary Clean Fuels Grant program; $20,247,000 of the available funding was earmarked to specific projects authorized in SAFETEA-LU. The $28,753,000 of Clean Fuels Grant program funding that was unallocated in FY 2008 remains available for discretionary award.

This announcement is available on the Internet on the FTA Web site at: http://www.fta.dot.gov. FTA will announce final selections on the Web site and in the Federal Register. A synopsis of this announcement will be posted in the FIND module of the government-wide electronic grants Web site at http://www.grants.gov. Proposals may be submitted to FTA electronically at cfnofa@dot.gov or through the GRANTS.GOV “APPLY” function. Those who apply via e-mail at cfnofa@dot.gov should receive a confirmation e-mail within 2 business days.

DATES: Complete proposals for the Clean Fuels Grant Program must be submitted by July 21, 2008. The proposals must be submitted electronically through the GRANTS.GOV Web site or via e-mail at cfnofa@dot.gov. Anyone intending to apply electronically through GRANTS.GOV should initiate the process of registering on the GRANTS.GOV site immediately to ensure completion of registration before the deadline for submission. FTA will announce grant selections in the Federal Register when the selection process is complete.

ADDRESSES: Supplemental information that cannot be submitted electronically may be submitted to the appropriate Regional Office (See Appendix A).

FOR FURTHER INFORMATION CONTACT: Contact the appropriate FTA Regional Office for general program information (Appendix A). For application-specific information and issues, contact Kimberly Sledge, Office of Transit Programs, (202) 366-2053, E-mail: kimberly.sledge@dot.gov or Henrika Buchanan-Smith, (202) 366-4020, E-mail: henrika.buchanan-smith@dot.gov. A TDD is available at 1-800-877-8339 (TDD/FIRS).

SUPPLEMENTARY INFORMATION

Table of Contents

I. Funding Opportunity Description

II. Award Information

III. Eligibility Information

IV. Application and Submission Information

V. Application Review, Selection, and Notification

VI. Award Administration

Appendix A FTA Regional Offices

I. Funding Opportunity Description

A. Authority

The program is authorized under Section 5308(b) of SAFETEA-LU, Pub. L 109-59, August 10, 2005.

“The Secretary shall make grants in accordance with this section to recipients to finance eligible projects.”

B. Background

The program was first established as the Clean Fuels Formula Grant Program in Section 3008 of the Transportation Equity Act for the 21st Century, Pub. L. 105-178, June 9, 1998. The program was developed to assist non-attainment or maintenance areas in achieving or maintaining the National Ambient Air Quality Standards for ozone and CO. Additionally, the program supported emerging clean fuel and advanced propulsion technologies for transit buses and markets for those technologies. Although the program was authorized as a formula grant program, Congress did not allocate funds to the program. SAFETEA-LU changed the Clean Fuels Program from a formula based grant program to a discretionary grant program. However, the program retained its initial purpose.

II. Award Information

In FY 2008, $28,753,000 in Clean Fuels Program funds are available to fund capital projects in areas that are maintenance or non-attainment for ozone or CO. These funds are available at up to 90 percent of the net incremental of the clean fuels component.

III. Eligibility Information

A. Eligible Applicants

Eligible applicants under this program are designated recipients, which are entities designated to receive Federal urbanized formula funds under 49 U.S.C. 5307. Areas with multiple transit operators but one designated recipient should submit a consolidated proposal.

B. Eligible Expenses

SAFETEA-LU grants authority to the Secretary to make grants under this section to assist recipients to finance eligible projects such as the following;

(1) Purchasing or leasing clean fuel buses, including buses that employ a lightweight composite primary structure and vans for use in revenue service. The purchase or lease of non-revenue vehicles is not an eligible project. A definition of “clean fuel” vehicles can be found in the Clean Fuel Grant Program Regulation at 49 CFR 624.3.

(2) Constructing or leasing clean fuel bus facilities or electrical recharging facilities and related equipment. Facilities and related equipment for clean diesel buses are not eligible.

(3) Projects relating to clean fuel, biodiesel, hybrid electric, or zero emissions technology buses that exhibit equivalent or superior emissions reductions to existing clean fuel or hybrid electric technologies.

Funds made available under this program cannot be used to fund operating expenses or preventive maintenance. Funds made available under this program cannot be used to reimburse projects that have incurred prior eligible expenses without a Letter of No Prejudice (LONP) issued by FTA for the project before the costs are incurred.

C. Cost Sharing or Matching

Costs will be shared at the following ratio: 90 percent FTA/10 percent local contribution for net incremental cost of the clean fuels component or 83 percent FTA/17 percent local contribution for the total project cost when purchasing vehicles. The Federal share for biodiesel buses is 90 percent/10 percent local share of the total project cost. FTA will not approve deferred local share under this program.

IV. Application and Submission Information

A. Proposal Submission Process

Project proposals may be submitted electronically through http://www.grants.gov or by e-mail electronically at cfnofa@dot.gov. Mail and fax submissions will not be accepted except for supplemental information that cannot be sent electronically.

Applicants can only apply for funds appropriated for the 2008 fiscal year. However, an applicant may propose a project that would expend money over multiple years. The project, however, should be ready to implement and should be completed in a reasonable period of time. In sum, the period of performance of the award is separate from the year of funds of the award.

B. Application Content

(1) Applicant Information

This addresses basic identifying information, including:

i. Applicant name,

ii. Contact information (including contact name, address, fax and phone number,

iii. Description of services provided by the agency, including areas served, and

iv. Existing fleet, facility and employee information, and

v. A description of your technical, legal, and financial capacity to implement the proposed project.

(2) Project Information

Every proposal must:

i. Describe the project to be funded and include with the proposal any necessary supporting documentation. Example: Information on the age of the current fleet, Metropolitan Planning Organization (MPO) concurrence letters, population forecasts, ridership information.

ii. Address each of the evaluation criteria separately.

iii. Describe why the project is important to the area and how the project addresses local priorities.

iv. Provide a line item budget for the project.

v. Provide the Federal amount requested for each purpose for which funds are sought.

vi. Document matching funds, including amount and source of the match.

vii. Provide project time-line, including significant milestones such as date or contract for purchase of vehicle(s), actual or expected delivery date of vehicles and contract award and completion of facility improvements.

C. Funding Restrictions

Only proposals from eligible recipients for eligible activities will be considered for funding (see Section III). Due to funding limitations, applicants that are selected for funding may receive less than the amount requested.

D. Other Submission Requirements

Applicants should submit 3 copies of any supplemental information that cannot be submitted electronically to the appropriate regional office. Supplemental information submitted in hardcopy must be postmarked by July 21, 2008.

V. Application Review Information

A. Project Evaluation Criteria

Projects will be evaluated according to the following criteria:

(1) Demonstrated Need

i. Project represents a one-time or periodic need that cannot reasonably be funded from formula allocations or State and/or local revenues.

ii. Project or applicant did not receive funding in a SAFETEA-LU earmark.

iii. The project will have a positive impact on air quality.

iv. The project is consistent with the applicant's bus fleet management plan.

v. The project is a transportation control measure in an approved State Implementation Plan.

(2) Planning and Prioritization at Local/Regional Level

i. Project is consistent with the transit priorities identified in the long range plan and/or contingency/illustrative projects. The project could not be included in the financially constrained Transportation Improvement Plan (TIP)/Statewide Transportation Program (STIP) due to lack of funding (if selected, project must be on TIP before grant award).

ii. Local support is demonstrated by availability of local match for this and/or related projects and letters of support.

iii. In an area with more than one transit operator, the application demonstrates coordination with and support of other transit operators, or other related projects within the applicant's MPO or the geographic region within which the proposed project will operate.

(3) The Project Is Ready To Implement

i. Any required environmental work has been initiated for construction projects requiring an Environmental Assessment (EA).

ii. Implementation plans are ready, including initial design of facilities projects.

iii. TIP/STIP can be amended (evidenced by MPO/State endorsement).

vi. Project can be obligated and implemented quickly, if selected.

(4) The applicant demonstrates the benefits of the proposed project in reducing transportation related pollutants.

(5) The proposed project supports emerging clean fuels technologies or advanced technologies for transit buses.

(6) The applicant demonstrates the technical, legal, and financial capacity to carry out the project. This criterion refers to implementation of the particular project proposed.

i. The applicant has the technical capacity to administer the project.

ii. The acquisition is consistent with the bus fleet management plan.

iii. There are no outstanding legal, technical, or financial issues with the grantee that would make this a high risk project.

iv. Source of local match is identified and is available for prompt project implementation if selected (no deferred local share will be allowed).

B. Review and Selection Process

Proposals will first be screened and ranked by the appropriate FTA regional office (see Appendix A). After evaluating the projects based on the established criteria, the headquarters review team will provide a recommendation to the FTA Administrator. The Administrator will determine the final selection and amount of funding for each project.

FTA will publish the list of all selected projects and funding levels in the Federal Register. Regional offices will also notify successful applicants of their success and the amount of funding awarded to the project.

VI. Award Administration Information

A. Award Notices

FTA will screen all proposals to determine whether all required eligibility elements, as described in III “Eligibility Information” are present. Once proposals have been reviewed and projects have been selected, FTA will award funds to the lead project sponsor to implement the project. These grants will be administered and managed by the FTA regional offices in accordance with the federal requirements of the Section 5308 program. FTA will award funding to successful applicants through a grant in FTA's TEAM grant management system.

B. Administrative and National Policy Requirements

1. Grant Requirements

If selected, applicants will apply for a grant through TEAM and adhere to the customary FTA grant requirements of the Section 5308 Clean Fuels Grant program, including those of the current version of FTA C 9300 and the Master Agreement. Discretionary grants greater than $500,000 will go through Congressional Notification and release process. Technical assistance regarding these requirements is available from each FTA regional office.

The Applicant must submit the Certifications and Assurances prior to receiving a grant. The Applicant assures that it will comply with all applicable Federal statutes, regulations, executive orders, FTA circulars, and other Federal administrative requirements in carrying out any project supported by the FTA grant. The Applicant acknowledges that it is under a continuing obligation to comply with the terms and conditions of the grant agreement issued for its project with FTA. The Applicant understands that Federal laws, regulations, policies, and administrative practices might be modified from time to time and affect the implementation of the project. The Applicant agrees that the most recent Federal requirements will apply to the project, unless FTA issues a written determination otherwise.

2. Planning

Applicants are encouraged to notify the appropriate State DOT and MPO in areas likely to be served by the project funds made available under this program. Incorporation of funded projects in the long range plans and transportation improvement programs of States and metropolitan areas is required of all funded projects.

3. Reporting

Post-award reporting requirements for grantees who purchase or lease hybrid electric, battery electric and fuel cell vehicles include semiannual submission of the following for the first three years of the useful life of the vehicle (this report should be attached in TEAM):

i. Vehicle miles traveled;

ii. Fuel/energy costs;

iii. Vehicle fuel/energy consumption and oil consumption;

iv. Number of road calls or breakdowns resulting from clean fuel and advanced propulsion technology systems; and

v. Maintenance costs associated with the clean fuels or advanced propulsion system.

Note: Recipients of financial assistance under 49 U.S.C. 5308 that purchase or lease compressed natural gas (CNG), liquefied natural gas (LNG), and liquefied petroleum gas (LPG) vehicles may report the information described above, but this reporting is voluntary. Recipients of financial assistance under 49 U.S.C. 5308 that purchase or lease clean diesel vehicles are not required to report information beyond FTA grant reporting requirements for capital projects.

VII. Agency Contact(s)

Contact the appropriate FTA Regional Office (see Appendix A) for application-specific information and issues. For general program information, contact Kimberly Sledge, Office of Transit Programs, (202) 366-2053, e-mail: kimberly.sledge@dot.gov. A TDD is available at 1-800-877-8339 (TDD/FIRS).

Issued in Washington, DC, this 14th day of May, 2008.
James S. Simpson,
Administrator.

Appendix A

Richard H. Doyle, Regional Administrator, Region 1-Boston, Kendall Square, 55 Broadway, Suite 920, Cambridge, MA 02142-1093, Tel. 617-494-2055, States served: Connecticut, Maine, Massachusetts, New Hampshire, Rhode Island, and Vermont

Brigid Hynes-Cherin, Regional Administrator, Region 2-New York, One Bowling Green, Room 429, New York, NY 10004-1415, Tel. 212-668-2170, States served: New Jersey, New York

Letitia Thompson, Regional Administrator, Region 3-Philadelphia, 1760 Market Street, Suite 500, Philadelphia, PA 19103-4124, Tel. 215-656-7100, States served: Delaware, Maryland, Pennsylvania, Virginia, West Virginia, and District of Columbia

Yvette Taylor, Regional Administrator, Region 4-Atlanta, 230 Peachtree Street, NW., Suite 800, Atlanta, GA 30303, Tel. 404-865-5600, States served: Alabama, Florida, Georgia, Kentucky, Mississippi Islands

Marisol Simon, Regional Administrator, Region 5-Chicago, 200 West Adams Street, Suite 320, Chicago, IL 60606, Tel. 312-353-2789, States served: Illinois, Indiana, Michigan, Minnesota, Ohio, and Wisconsin

Robert C. Patrick, Regional Administrator, Region 6-Ft. Worth, 819 Taylor Street, Room 8A36, Ft. Worth, TX 76102, Tel. 817-978-0550, States served: Arkansas, Louisiana, Oklahoma, New Mexico and Texas

Mokhtee Ahmad, Regional Administrator, Region 7-Kansas City, MO, 901 Locust Street, Room 404, Kansas City, MO 64106, Tel. 816-329-3920, States served: Iowa, Kansas, Missouri, and Nebraska

Terry Rosapep, Regional Administrator, Region 8-Denver, 12300 West Dakota Ave., Suite 310, Lakewood, CO 80228-2583, Tel. 720-963-3300, States served: Colorado, Montana, North Dakota, South Dakota, Utah, and Wyoming

Leslie T. Rogers, Regional Administrator, Region 9-San Francisco, 201 Mission Street, Room 1650, San Francisco, CA 94105-1926, Tel. 415-744-3133, States served: American Samoa, Arizona, California, Guam, Hawaii, Nevada, and the Northern Mariana Islands

Rick Krochalis, Regional Administrator, Region 10-Seattle, Jackson Federal Building, 915 Second Avenue, Suite 3142, Seattle, WA 98174-1002, Tel. 206-220-7954. States served: Alaska, Idaho, Oregon, and Washington

[FR Doc. E8-11224 Filed 5-21-08; 8:45 am]

BILLING CODE 4910-57-P